DEPARTMENT OF JUSTICE

Notice of Consent Judgment Pursuant to the Clean Air Act

In accordance with Departmental Policy, 28 CFR 50.7, 38 FR 19029, notice is hereby given that a proposed Consent Decree in United States v. Big Apple Wrecking Corp., et al., 88 Civ. No. 9190 (D.S.N.Y.) (DNE), was lodged in the United States District Court for the Southern District of New York on March 30, 2000. This is an action brought under section 113(b) of the Clean Air Act (the “Act”), 42 U.S.C. 7413(B), for civil penalties and injunctive relief for violations of the Act, 42 U.S.C. 7401 et seq., and of the asbestos National Emission Standard for Hazardous Pollutants (the “asbestos NESHAP”), 40 CFR part 61, Subpart M. promulgated pursuant to section 112 of the Act, 42 U.S.C. 7412.

The proposed Consent Decree resolves the claims against defendants Big Apple Wrecking Corporation (“Big Apple”), DeMatteis Construction Corporation and Crescent-Duane Co. for their failures to comply with work practice standards contained in the asbestos NESHAP during the removal, handling and disposal of asbestos from a building being demolished at 105-107 Duane Street in New York City (the “Duane Street site”). The Consent Decree provides that Big Apple Wrecking Corporation will pay $15,000.00, and DeMatteis Construction Corporation and Crescent-Duane Co. will pay, collectively, $25,000.00 to the United States as civil penalties. The Consent Decree also includes general injunctive relief that prohibits future violations of the Act and the asbestos NESHAP, and requires the defendants to provide notice to EPA of future demolition or renovation operations. The Consent Decree resolves only those civil claims alleged in the complaint against settling defendants.

The Department of Justice will receive, for a period of thirty (30) days from the date of this publication, written comments relating to the proposed Consent Decree. Comments should be addressed to the Assistant Attorney General for the Environmental and Natural Resources Division, Department of Justice, Washington, DC 20530, and should refer to United States v. Big Apple Wrecking Corp., et al., DOJ #90-5-2-1-1281, 88 Civ. No. 9190 (DNE).

The proposed Consent Decree may be examined at the Office of the United States Attorney, Southern District of New York, 100 Church Street, 19th Floor, New York, New York 10007; and at the Region II Office of the U.S. Environmental Protection Agency, 290 Broadway, New York, New York 10278. Copies of the Consent Decree may be obtained by mail from the Consent Decree Library, United States Department of Justice, PO Box 7611 Ben Franklin Station, Washington, DC 20044, (202) 514-1547. In requesting a copy, please enclose a check in the amount of $3.25 (25 cents per page reproduction costs) payable to the Consent Decree Library.

Walker B. Smith,
Deputy Chief, Environmental Enforcement Section, Environment and Natural Resources Division.

[FR Doc. 00-10593 Filed 4-27-00; 8:45 am]

BILLING CODE 4410-15-M